FEDERAL DEPOSIT INSURANCE CORPORATION

FDIC Advisory Committee of State Regulators; Notice of Establishment

AGENCY: Federal Deposit Insurance Corporation (FDIC).

ACTION: Notice of establishment of the FDIC Advisory Committee of State Regulators.

SUMMARY: The Chairman of the FDIC is establishing the FDIC Advisory Committee of State Regulators (the ACSR). The ASCR will provide advice and recommendations to the FDIC on a broad range of policy issues regarding the regulation of state-chartered financial institutions throughout the United States, including its territories. The ACSR will provide a forum where state regulators and the FDIC can discuss a variety of current and emerging issues that have potential implications regarding the regulation and supervision of state-chartered financial institutions. The ACSR is intended to facilitate regular discussion of: Safety and soundness and consumer protection issues; the creation of new banks; the protection of our nation's financial system from risks such as cyber-attacks or money laundering; and other timely issues. The ACSR will serve solely in an advisory capacity and will have no final decision-making authority, nor will it have access to or discuss any non-public, confidential or institution-specific information. The Chairman certifies that the establishment of the ACSR is in the public interest in connection with the performance of duties imposed on the FDIC by law. ACSR members will not receive any compensation for their services other than reimbursement for reasonable travel expenses incurred to attend ACSR meetings.

FOR FURTHER INFORMATION CONTACT: Robert E. Feldman, Executive Secretary, FDIC, 550 17th Street NW, Washington, DC 20429; telephone (202) 898-7043.

SUPPLEMENTARY INFORMATION: In accordance with the requirements of the Federal Advisory Committee Act (FACA), 5 U.S.C. App. 2, notice is hereby given that the Chairman of the FDIC intends to establish the FDIC ACSR. After consultation with the General Services Administration as required by section 9(a)(2) of FACA and 41 CFR 102-3.65, the Chairman of the FDIC certifies that she has determined that the establishment of the ACSR is in the public interest in connection with the performance of duties imposed on the FDIC by law. The ACSR will function solely as an advisory body, and in compliance with the provisions of FACA. To ensure relevant expertise on the ACSR, members of the ACSR should include regulators of state-chartered financial institutions from across the United States, including its territories, or other individuals with expertise in the regulation of state-chartered financial institutions.

Dated at Washington, DC, on November 26, 2019.
Federal Deposit Insurance Corporation.
Annmarie H. Boyd,
Assistant Executive Secretary.

[FR Doc. 2019-26013 Filed 11-29-19; 8:45 am]

BILLING CODE P